DEPARTMENT OF HEALTH AND HUMAN SERVICES

Health Care Financing Administration

[Document Identifier: HCFA-684A-I and HCFA-685]

Agency Information Collection Activities: Proposed Collection; Comment Request

AGENCY: Health Care Financing Administration, DHHS.

In compliance with the requirement of section 3506(c)(2)(A) of the Paperwork Reduction Act of 1995, the Health Care Financing Administration (HCFA), Department of Health and Human Services, is publishing the following summary of proposed collections for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

(1) Type of Information Collection Request: Revision of a currently approved collection;

Title of Information Collection: End-Stage Renal Disease (ESRD) Network Business Proposal Forms and Supporting Regulations in 42 CFR 405.2110 and 405.2112;

Form No.: HCFA-684A-I (OMB# 0938-0658);

Use: The submission of business proposal information by current ESRD networks and other bidders, according to the business proposal instructions, meets HCFA's need for meaningful, consistent, and verifiable data when evaluating contract proposals.;

Frequency: Other: Every 3 years;

Affected Public: Not-for-profit institutions;

Number of Respondents: 18;

Total Annual Responses: 36;

Total Annual Hours: 1,080.

(2) Type of Information Collection Request: Extension of a currently approved collection;

Title of Information Collection: End-Stage Renal Disease (ESRD) Network Semi-Annual Cost Report Forms and Supporting Regulations in 42 CFR 405.2110 and 405.2112.;

Form No.: HCFA-685 (OMB# 0938-0657);

Use: Submission of semi-annual cost reports allow HCFA to review, compare, and project ESRD network costs. The reports are used as an early warning system to determine whether the networks are in danger of exceeding the total cost of the contract. Additionally, HCFA can analyze line item costs to identify any significant aberrations.

Frequency: Semi-annually;

Affected Public: Not-for-profit institutions;

Number of Respondents: 18;

Total Annual Responses: 36;

Total Annual Hours: 1,080.

To obtain copies of the supporting statement and any related forms for the proposed paperwork collections referenced above, access HCFA's Web Site address at http://www.hcfa.gov/regs/prdact95.htm, or E-mail your request, including your address, phone number, OMB number, and HCFA document identifier, to Paperwork@hcfa.gov, or call the Reports Clearance Office on (410) 786-1326. Written comments and recommendations for the proposed information collections must be mailed within 60 days of this notice directly to the HCFA Paperwork Clearance Officer designated at the following address:

HCFA, Office of Information Services, Security and Standards Group, Division of HCFA Enterprise Standards, Attention: Dawn Willinghan, Room N2-14-26, 7500 Security Boulevard, Baltimore, Maryland 21244-1850.

Date: July 11, 2000.
John P. Burke III,
HCFA Reports Clearance Officer, HCFA Office of Information Services, Security and Standards Group, Division of HCFA Enterprise Standards.

[FR Doc. 00-18379 Filed 7-19-00; 8:45 am]

BILLING CODE 4120-03-P